DEPARTMENT OF TRANSPORTATION

Office of the Secretary

Notice of Applications for Certificates of Public Convenience and Necessity and Foreign Air Carrier Permits Filed Under Subpart B (Formerly Subpart Q) During the Week Ending November 18, 2005

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22882.

Date Filed: November 14, 2005.

Due Date for Answers, Conforming Applications, or Motion to Modify Scope: December 5, 2005.

Description: Amendment No. 1 of Gazpromavia Aviation Company Ltd. amending its application for a foreign air carrier permit to extend its requested authority to permit it to engage in passenger, combination and all-cargo charter service between the Russian Federation and the United States.

Docket Number: OST-2005-23086.

Date Filed: November 17, 2005.

Due Date for Answers, Conforming Applications, or Motion to Modify Scope: December 8, 2005.

Description: Application of Aguadilla Airline Services, Inc. requesting authority to conduct scheduled passenger operations as a commuter air carrier.

Docket Number: OST-2001-8910.

Date Filed: November 17, 2005.

Due Date for Answers, Conforming Applications, or Motion to Modify Scope: December 8, 2005.

Description: Application of Continental Airlines, Inc. requesting renewal of its Route 805 certificate authorizing Continental to provide scheduled foreign air transportation of persons, property and mail between New York/Newark, NJ, and Cali and Medellin, Colombia and to integrate this authority with other authority held by Continental.

Renee V. Wright,
Program Manager, Docket Operations, Federal Register Liaison.

[FR Doc. E5-6989 Filed 12-6-05; 8:45 am]

BILLING CODE 4910-62-P